SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before October 16, 2023.

ADDRESSES: Send all comments to Daniel Upham, Office of Financial Assistance, Microenterprise Development Division, Small Business Administration, 409 3rd Street SW, Washington, DC 20416.

FOR FURTHER INFORMATION CONTACT: Daniel Upham, Office of Financial Assistance, Microenterprise Development Division, daniel.upham@sba.gov, (202) 205-7001, or Curtis B. Rich, Agency Clearance Officer, (202) 205-7030, curtis.rich@sba.gov.

SUPPLEMENTARY INFORMATION: SBA has established a pilot loan program, the Intermediary Lending Pilot Program (ILPP), to make direct loans to eligible intermediaries, for the purpose of making loans to startup, newly established, and growing small business concerns. This requested information, which will be provided by intermediaries will be used to monitor program effectiveness while minimizing risk to the federal taxpayer.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0376.

Title: Intermediary Lending Pilot Program Application and Reporting Requirements.

Description of Respondents: Intermediary Lenders.

Form Numbers: 2418, 2419.

Total Estimated Annual Responses: 432.

Total Estimated Annual Hour Burden: 3,168

Curtis Rich,
Agency Clearance Officer.

[FR Doc. 2023-17631 Filed 8-16-23; 8:45 am]

BILLING CODE 8026-09-P